ENVIRONMENTAL PROTECTION AGENCY

[ER-FRL-6611-1]

Environmental Impact Statements; Notice of Availability

Responsible Agency: Office of Federal Activities, General Information, (202) 564-7167 or www.epa.gov/oeca/ofa.

Weekly receipt of Environmental Impact Statements Filed September 11, 2000 Through September 15, 2000 Pursuant to 40 CFR 1506.9.

EIS No. 000321, Final EIS, BLM, OR, North Bank Habitat Management Area (NBHMA)/Area of Critical Environmental Concern (ACEC), Federally Endangered Columbian White-Tailed Deer (CWTD) and Special Status Species Habitat Enhancements to Ensure Viability Over Time, Implementation, OR, Due: October 23, 2000, Contact: Jay Carlson (541) 440-4930.

EIS No. 000322, Revised Draft EIS, FAA, CA, Metropolitan Oakland International Airport (MOIA), Airport Development Plan (ADP), Reevaluation of the Forecasts and Planning Assumptions in the ADP, Airport Layout Plan Approval, Funding and COE Section 404 and 10 Permits Issuance, Port of Oakland, Alameda County, CA, Due: October 30, 2000, Contact: Joseph R. Rodriguez (650) 876-2805.

EIS No. 000323, Final EIS, CGD, IL, MI, OH, NY, IN, MN, WI, PA, Great Lakes Icebreaking Operation, Implementation, Ninth District, IL, IN, MI, MN, OH, WI, NY and PA, Due: October 23, 2000, Contact: Gary Nelson (216) 902-6258.

EIS No. 000324, Final EIS, SFW, CA, San Dieguito Wetland Restoration Project, Implementation, Comprehensive Restoration Plan, COE Section 404 Permit, Cities of Del Mar and San Diego, San Diego County, CA, Due: October 23, 2000, Contact: Jack Fancher (760) 431-9440.

EIS No. 000325, Draft EIS, AFS, OK, Quachita National Forest, An Amendment to the Land and Resource Management Plan, Implementation, Glover River, McCurtain County, OK, Due: December 29, 2000, Contact: Elizabeth Estill (404) 347-4178.

EIS No. 000326, Final EIS, AFS, WV, Fernow Experimental Forest, Implementation of New Research Studies, Monongahela National Forest Land and Resource Management Plan, Tucker County, WV, Due: October 23, 2000, Contact: Mary Beth Adams (304) 478-2000.

EIS No. 000327, Final EIS, SFW, MT, WA, ID, Plum Creek Native Fish Habitat Conservation Plan, Issuance of an Incidental Take Permit for Federally Protected Native Fish Species, MT, ID and WA, Due: October 23, 2000, Contact: Ben Harrison (503) 231-2068.

EIS No. 000328, Final EIS, BLM, NM, Rio Puerco Resource Management Plan Amendment, Managing Land and Resource for EL Malpais National Conservation Area and Chain of Craters Wilderness Study Area, Lies South of the City of Grants, Cibola County, NM, Due: October 23, 2000, Contact: Kent Hamilton (505) 761-8746.

EIS No. 000329, Final EIS, USN, GU, Surplus Navy Property Identified in the Guam Land Use Plan (GLUP '94) for Disposal and Reuse, Implementation, GU, Due: October 23, 2000, Contact: Gerald Gibbons (808) 471-9338.

Dated: September 19, 2000.
Anne Norton Miller,
Acting Director, Office of Federal Activities.

[FR Doc. 00-24451 Filed 9-21-00; 8:45 am]

BILLING CODE 6560-50-P